DEPARTMENT OF LABOR

Employment and Training Administration

Proposed Information Collection Submitted for Public Comment and Recommendations: Evaluation of the Trade Adjustment Assistance Program

ACTION: Notice.

SUMMARY: The Department of Labor, as part of its continuing effort to reduce paperwork and respondent burden, conducts a pre-clearance consultation program to provide the general public and Federal agencies with an opportunity to comment on proposed collections of information in accordance with the Paperwork Reduction Act of 1995 (44 U.S.C. 3506)(c)(2)(A). This program helps to ensure that requested data can be provided in the desired format, reporting burden (time and financial resources) is minimized, collection instruments are clearly understood, and the impact of the collection requirements on respondents can be properly assessed.

DATES: Submit comments on or before May 19, 2006.

ADDRESSES: Send comments to Ms. Charlotte Schifferes, Employment and Training Administration, U.S. Department of Labor, 200 Constitution Avenue, NW., Room N-5637, Washington, DC 20210; (202) 693-3655 (this is not a toll-free number); e-mail: schifferes.charlotte@dol.gov; and fax: (202) 693-2766 (this is not a toll-free number).

FOR FURTHER INFORMATION CONTACT: Ms. Charlotte Schifferes, Employment and Training Administration, U.S. Department of Labor, 200 Constitution Avenue, NW., Room N-5637, Washington, DC 20210; (202) 693-3655 e-mail: schifferes.charlotte@dol.gov; and fax: (202) 693-2766. Copies of this Paperwork Reduction Act Submission Package are at this Web site: http://www.doleta.gov/Performance/guidance/OMBControlNumber.cfm.

SUPPLEMENTARY INFORMATION:

I. Background

The Employment and Training Administration (ETA) is soliciting comments regarding data collection for the impact evaluation of the Trade Adjustment Assistance (TAA) program, reauthorized and amended in 2002. The evaluation, begun in January 2004, was motivated by enactment of new TAA legislation and is part of a planned cycle of evaluations in response to the Program Assessment Rating Tool reviews by the Office of Management and Budget (OMB). The TAA evaluation is intended to generate information that will be useful in responding to programmatic issues and in developing administrative guidance, technical assistance, and legislative or budgetary proposals.

The TAA program provides training, income support, and other reemployment and supportive services to workers who lose their jobs or have their work hours or salary reduced because of increased imports or shifts in production to foreign countries. The Trade Adjustment Assistance Reform Act of 2002 (Pub. L. 107-210) reauthorized the TAA program for five years and amended the prior law in a number of ways. It consolidated TAA and the North American Free Trade Agreement Transitional Adjustment Assistance programs into a single program, broadened eligibility to include secondarily affected workers, and created two new benefits: the Health Coverage Tax Credit (HCTC) and Alternative TAA for eligible workers 50 years old and above. The new law also included provisions to change how the program is administered, such as the requirement that states must ensure that rapid response assistance and appropriate core and intensive services are made available.

The primary focus of the evaluation of the TAA program is to understand how TAA benefits and training services affect the employment and earnings of participants. In order to estimate these net impacts, outcomes of two groups of TAA participants will be compared to outcomes of two statistically matched comparison groups of Unemployment Insurance (UI) recipients. This quasi-experimental approach will require extensive information on demographic and personal characteristics as well as on programmatic experiences of both TAA participants and the comparison group. This information will be gleaned from state TAA and UI administrative records and from baseline and follow-up surveys of individuals in the treatment and comparison groups.

Finally, to understand how various program and administrative practices affect TAA performance, including the various types of collaboration and administrative arrangements through which TAA operates in the One-Stop Career Center system under the Workforce Investment Act (WIA), information will be gleaned from site visits to states and localities and from a survey of all local TAA programs.

Administrative records will be requested from a sample of up to 25 states (randomly selected proportionate to size). These records will include: (1) Rosters of TAA-eligible workers to be used for selecting samples of workers; (2) UI and Trade Readjustment Allowance claims data to measure claims amounts and draw the comparison-group sample; (3) UI wage records to measure pre-separation and post-separation employment and earnings for those in the treatment and comparison groups; and (4) TAA and WIA participant files to measure participant characteristics and service use. The baseline and follow-up surveys will be used to supplement information available from the administrative records by adding information about demographic and household characteristics, reasons for participating (or not participating) in services, services received, training outcomes, methods of job search, and employment history before and after the job separation. The survey will be administered by telephone in 2006 to a randomly selected sample of approximately 10,000 workers, divided between those in the TAA treatment and comparison groups. Smaller but still substantial numbers will be re-interviewed 15 and 30 months after the initial baseline survey.

Six rounds of site visits to states and localities will be conducted during the course of the evaluation, including those for the already completed Initial Implementation Study (that explored implementation of key reform elements in the 2002 legislation). The depth of information from the site visits will be complemented by a breadth of information to be collected from a local survey to be administered in 2006. This local survey will be administered nationwide to local One-Stop Career Centers with substantial TAA activity to elicit information about general issues of TAA operations, including the types of TAA services provided, program integration within the One-Stop system, recruitment efforts for the TAA program, and the timeliness of early-intervention activities, among other issues.

II. Desired Focus of Comments

Currently, ETA is soliciting comments concerning data collection for the five-year TAA evaluation that:

(a) Evaluate whether the proposed collection of information is necessary for the proper performance of the functions of the agency, including whether the information will have practical utility;

(b) Evaluate the accuracy of the agency's estimate of the burden of the proposed collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submissions of responses.

A copy of material relating to the proposed information collection request (ICR) can be obtained by contacting the office listed above in the addressee section of this notice. Items that can be obtained include: (1) The proposed “supporting statement” which describes the purpose, methodology, and respondent burdens of the evaluation, (2) a technical appendix that includes mathematical formulas regarding statistical aspects of the evaluation, (3) instruments for the baseline and follow-up surveys of the comparison and treatment groups, (4) site visit protocols for state and local visits, and (5) the instrument for the survey of local areas.

III. Current Actions

Type of Review: New.

Agency: Employment and Training Administration.

Title: Evaluation of the Trade Adjustment Assistance Program.

OMB Number: New.

Affected Public: Individuals eligible for TAA program benefits and services; individuals receiving unemployment insurance; and state and local administrators of TAA, UI, and WIA programs.

Respondents and Burden Hours: See table below on the data collection activities.

Respondent Hours Burden for the TAA Evaluation
Activity | Total respondents | Frequency | Average minutes per response | Burden hours
Impact Analysis
State Administrative Data:
Requests | 25 | Thrice | 480 | 600
Baseline Survey | 7,965 | One time | 35 | 4,646
15-Month Follow-up Survey | 5,310 | One time | 30 | 2,655
30-Month Follow-up Survey | 3,540 | One time | 30 | 1,770
Process Analysis
Administration of Site Visit Protocols:
State staff (rounds 1 & 3) | 150 | Twice | 120 | 600
Local area staff (rounds 2, 4, and 5) | 600 | One time | 120 | 1,200
State staff (round 5) | 125 | One time | 120 | 250
Total |  |  |  | 2,500
Survey of All Local Areas
State phone screener | 50 | One time | 10 | 8
Local mail survey | 700 | One time | 20 | 233

Total Burden Cost for capital and startup: $0. There are no start-up costs; however, states will incur minimal costs associated with providing data files for TAA and UI.

Total Burden Cost for operation and maintenance: $0. There are no on-going costs for operation and maintenance.

Comments submitted in response to this request will be summarized and/or included in the request for OMB approval of the information collection request; they will also become a matter of public record.

Dated: March 10, 2006.
Emily Stover DeRocco,
Assistant Secretary for Employment and Training.

[FR Doc. E6-3969 Filed 3-17-06; 8:45 am]

BILLING CODE 4510-30-P